DEPARTMENT OF EDUCATION

President's Board of Advisors on Historically Black Colleges and Universities

AGENCY: President's Board of Advisors on Historically Black Colleges and Universities, Office of Undersecretary, Department of Education.

ACTION: Announcement of an open meeting.

SUMMARY: This notice sets forth the agenda for the February 4, 2015, meeting of the President's Board of Advisors on Historically Black Colleges and Universities (PBA) and provides information to members of the public on submitting written comments and on the process as to how to request time to make oral comments at the meeting. The notice also describes the functions of the Board. Notice of the meeting is required by § 10(a)(2) of the Federal Advisory Committee Act and intended to notify the public of its opportunity to attend.

DATES: The PBA meeting will be held on February 4, 2015, from 9 a.m. to 2:00 p.m. at the National Aeronautics and Space Administration Headquarters, 300 E Street SW., Washington, DC 20546.

ADDRESSES: U.S. Department of Education, White House Initiative on Historically Black Colleges and Universities, 400 Maryland Avenue SW., Washington, DC 20202. The exact location of the meeting will be published in the Federal Register and on the Department's Web site at http://www.ed.gov/edblogs/whhbcu/policy/presidents-board-of-advisors-pba-on-hbcus/ by January 29, 2015.

FOR FURTHER INFORMATION CONTACT: Sedika Franklin, Program Specialist, U.S. Department of Education, White House Initiative on Historically Black Colleges and Universities, 400 Maryland Avenue SW., Washington, DC 20204; telephone: (202) 453-5634 or (202) 453-5630, fax: (202) 453-5632, or email sedika.franklin@ed.gov.

SUPPLEMENTARY INFORMATION: PBA's Statutory Authority and Function: The President's Board of Advisors on Historically Black Colleges and Universities (the Board) is established by Executive Order 13532 (February 26, 2010). The Board is governed by the provisions of the Federal Advisory Committee Act (FACA), (Pub. L. 92-463; as amended, 5 U.S.C.A., Appendix 2) which sets forth standards for the formation and use of advisory committees. The purpose of the Board is to advise the President and the Secretary of Education (Secretary) on all matters pertaining to strengthening the educational capacity of Historically Black Colleges and Universities (HBCUs).

The Board shall advise the President and the Secretary in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Meeting Agenda: In addition to its review of activities since May 22, 2014, the meeting agenda will include subcommittee discussions regarding the outcome of the National Institute of Standards and Technology summit held on November 3, 2014; the White House Initiative on HBCUs' 2012 Report to the President on the Results of the Participation of Historically Black Colleges and Universities in Federal Programs and updates on the draft of the White House Initiative on HBCUs' 2013 Report to the President on the Results of the Participation of Historically Black Colleges and Universities in Federal Programs; U.S. Department of Education's Under Secretary, Ted Mitchell will provide an update on current and new policies/initiatives from the department; Deputy director, Ivory Toldson will provide updates on the HBCU All Star program and discuss next steps for the HBCU Dashboard; David Johns, executive director of the White House Initiative on Educational Excellence for African Americans will discuss the joint meeting requirement for the Board.

Below is a list of agencies, scheduled to provide updates on fiscal year 2015 activities and outreach during the February 4, 2015 meeting:

• National Aeronautics and Space Administration

• U.S. Department of Energy

Submission of requests to make an oral comment: There are two methods the public may use to make an oral comment at the February 4, 2015 meeting.

Method One: Submit a request by email to the oswhi-hbcu@ed.gov mailbox. Please do not send material directly to PBA members. Requests must be received by February 2, 2015, and include the subject line “Oral Comment Request: (organization name).” The email must include the name(s), title, organization/affiliation, mailing address, email address, telephone number, of the person(s) requesting to speak, and a brief summary (not to exceed one page) of the principal points to be made during the oral presentation. All individuals submitting an advance request in accordance with this notice will be afforded an opportunity to speak.

Method Two: Register at the meeting location on February 4, 2015, to make an oral comment during the PBA's deliberations concerning Historically Black Colleges and Universities. The requestor must provide his or her name, title, organization/affiliation, mailing address, email address, and telephone number. Individuals will be selected on a first-come, first-served basis. If selected, each commenter may not exceed three minutes.

All oral comments made will become part of the official record of the Board. Similarly, written materials distributed during oral presentations will become part of the official record for the meeting.

Submission of written public comments: The Committee invites written comments to be read during the Public Comment segment of the agenda. Comments must be received by February 2, 2015, in the oswhi-hbcu@ed.gov mailbox and include the subject line “Written Comments: Public Comment”. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the PBA members.

Access to Records of the Meeting: The Department will post the official report of the meeting on the PBA Web site 90 days after the meeting. Pursuant to the Federal Advisory committee Act (FACA), the public may also inspect the materials at 400 Maryland Avenue SW., Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice at least one week before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: Presidential Executive Order 13532.

Ted Mitchell,
Under Secretary.

[FR Doc. 2015-01119 Filed 1-22-15; 8:45 am]

BILLING CODE P